DEPARTMENT OF TRANSPORTATION

Federal Railroad Administration

[Docket Number FRA-2013-0108]

Petition for Waiver of Compliance

In accordance with part 211 of Title 49 Code of Federal Regulations (CFR), this document provides the public notice that by a document dated October 10, 2013, New Jersey Transit Rail (NJTR) has petitioned the Federal Railroad Administration (FRA) for a waiver of compliance from certain Federal hours of service requirements for train employees engaged in commuter or intercity rail passenger transportation contained at 49 CFR 228.405(a)(3). FRA assigned the petition Docket Number FRA-2013-0108.

In its petition, NJTR seeks a temporary waiver, from January 31, 2014, to February 3, 2014, allowing train employees to exceed the consecutive day limitations of initiating on-duty periods to accommodate an anticipated increase in business during the 2014 Super Bowl weekend. Specifically, NJTR is requesting relief from the mandatory time off requirements of 24 consecutive hours and 2 consecutive calendar days following the initiation of on-duty periods for 6 and 14 consecutive calendar days.

In support of its request, NJTR explained that, because of the extended nature of the required additional service and the possibility of workforce illness or weather events, manpower shortfalls may occur and a waiver from the rest requirements would provide greater certainty in filling extra jobs. In addition, NJTR expressed that its safety record demonstrates that its employees worked safely before the Federal rest requirements, and that it is committed to taking additional steps to ensure fatigue is minimized.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by January 13, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2013-28687 Filed 11-27-13; 8:45 am]

BILLING CODE 4910-06-P